DEPARTMENT OF TRANSPORTATION

Federal Aviation Administration

14 CFR Part 71

[Airspace Docket No. 01-AGL-18]

Establishment of Class E Airspace; Flint, MI; Correction

AGENCY: Federal Aviation Administration (FAA), DOT.

ACTION: Direct final rule; correction.

SUMMARY: This action corrects an error in the summary and legal description of a Direct final rule that was published in the Federal Register on Monday, March 11, 2002 (67 FR 10841), Airspace Docket No. 01-AGL-18. The direct final rule established Class E Airspace at Flint, MI.

EFFECTIVE DATE: 0901 UTC, August 8, 2002.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 02-5627, Airspace Docket No. 01-AGL-18, published on Monday, March 11, 2002 (67 FR 10841), established Class E Airspace at Flint, MI. An error in the summary and legal description for the Class E airspace for Flint, MI, was published. An incorrect radius was printed. The action corrects that error.

Accordingly, pursuant to the authority delegated to me, the errors in the summary and legal description for the Class E airspace, Flint, MI, as published in the Federal Register Monday, March 11, 2002 (67 FR 10841), (FR Doc. 02-5627), are corrected as follows:

1. On page 10841, Column 3, in the summary, correct “4.4-mile radius” to read “5.0-mile radius”.

§ 71.1 [Corrected]

2. On page 10842, Column 3, under AGL MI E2 Flint, MI [NEW] in the legal description, correct “4.4 = mile radius” to read “5.0 = mile radius”

Issued in Des Plaines, Illinois on July 22, 2002.
Nancy B. Shelton,
Manager, Air Traffic Division, Great Lakes Region.

[FR Doc. 02-20893 Filed 8-15-02; 8:45 am]

BILLING CODE 4910-13-M